DEPARTMENT OF ENERGY

[FE Docket No. PP-226]

Application for Presidential Permit Brownsville Public Utilities Board

AGENCY: Office of Fossil Energy, DOE.

ACTION: Notice of application.

SUMMARY: Brownsville Public Utilities Board (BPUB) has applied for a Presidential permit to construct, connect, operate and maintain double-circuit electric transmission facilities across the U.S. border with Mexico.

DATES: Comments, protests, or requests to intervene must be submitted on or before July 31, 2000.

ADDRESSES: Comments, protests, or requests to intervene should be addressed as follows: Office of Coal & Power Import and Export (FE-27), Office of Fossil Energy, U.S. Department of Energy, 1000 Independence Avenue, SW., Washington, DC 20585-0350.

FOR FURTHER INFORMATION CONTACT: Ellen Russell (Program Office) 202-586-9624 or Michael T. Skinker (Program Attorney) 202-586-2793.

SUPPLEMENTARY INFORMATION: The construction, operation, and connection of facilities at the international border of the United States for the transmission of electric energy between the United States and a foreign country is prohibited in the absence of a Presidential permit issued pursuant to Executive Order (EO) 10485, as amended by EO 12038.

On June 23, 2000, BPUB, the municipal electric utility of the City of Brownsville, Texas, filed an application with the Office of Fossil Energy (FE) of the Department of Energy (DOE) for a Presidential permit. BPUB proposes to construct a double circuit 138,000 volt (138-kV) transmission line, on wood poles, from its existing Silas Ray Power Plant in Brownsville, Texas, and extending approximately 3,000 feet to the U.S.-Mexico border. At the border the transmission circuits would interconnect with similar facilities of the Comision Federal de Electricidad (CFE), the national electric utility of Mexico, and continue an additional 1.7 miles into Matamoros, Tamaulipas, Mexico. As an instrumentality of the State of Texas, BPUB is not subject to section 202(e) of the Federal Power Act (FPA), and therefore, not required to submit an application to DOE for authorization to export electric energy to Mexico.

BPUB is proposing to develop this project in three phases. In phase one, BPUB would energize only one of the two 138-kV circuits and operate it at 69-kV. This would give BPUB the ability to transmit up to 100 megawatts (MW) of power to Mexico. In phase two, BPUB would energize both 138-kV circuits at 69-kV by installing a circuit breaker and related relaying equipment (by approximately the year 2002). This modification would give BPUB the ability to transmit up to 200 MW of electric power to Mexico. In phase three, BPUB would convert all 69-kV facilities at Silas Ray to 138-kV (by approximately the year 2005) by replacing power transformers, circuit breakers, switches, and related equipment within the existing switchyard. BPUB would then operate both circuits at 138-kV and be capable of transmitting up to 400 MW to Mexico.

In its application, BPUB asserts that the proposed international transmission facilities will be operated in such a way that the BPUB and CFE systems will not be operated in parallel.

Since restructuring of the electric power industry began, resulting in the introduction of different types of competitive entities into the marketplace, DOE has consistently expressed its policy that cross-border trade in electric energy should be subject to the same principles of comparable open access and non-discrimination that apply to transmission in interstate commerce. DOE has stated that policy in export authorizations granted to entities requesting authority to export over international transmission facilities. Specifically, DOE expects transmitting utilities owning border facilities to provide access across the border in accordance with the principles of comparable open access and non-discrimination contained in the FPA and articulated in Federal Energy Regulatory Commission Order No. 888 (Promotion Wholesale Competition Through Open Access Non-Discriminatory Transmission Services by Public utilities; FERC Stats. & Regs. ¶ 31,036 (1996)), as amended. In furtherance of this policy, on July 27, 1999, (64 FR 40586) DOE initiated a proceeding in which it noticed its intention to condition existing and future Presidential permits, appropriate for third party transmission, on compliance with a requirement to provide non-discriminatory open access transmission service. That proceeding is not yet complete. However, in this docket DOE specifically requests comment on the appropriateness of applying the open access requirement on BPUB's proposed facilities.

Procedural Matters

Any person desiring to become a party to this proceeding or to be heard by filing comments or protests to this application should file a petition to intervene, comment or protest at the address provided above in accordance with §§ 385.211 or 385.214 of the FERC's Rules of Practice and Procedures (18 CFR 385.211, 385.214). Fifteen copies of each petition and protest should be filed with the DOE on or before the date listed above.

Additional copies of such petitions to intervene or protests also should be filed directly with: John S. Bruciak, Brownsville Public Utilities Board, 1425 Robin Hood Drive, P.O. Box 3270, Brownsville, TX 78520.

Before a Presidential permit may be issued or amended, the DOE must determine that the proposed action will not adversely impact on the reliability of the U.S. electric power supply system. In addition, DOE must consider the environmental impacts of the proposed action (i.e., granting the Presidential permit, with any conditions and limitations, or denying the permit) pursuant to NEPA. DOE also must obtain the concurrence of the Secretary of State and the Secretary of Defense before taking final action on a Presidential permit application.

Copies of this application will be made available, upon request, for public inspection and copying at the address provided above. In addition, the application may be reviewed or downloaded from the Fossil Energy Home Page at: http://www.fe.doe.gov. Upon reaching the Fossil Energy Home page, select “Electricity” from the options menu, and then “Pending Proceedings.”

Issued in Washington, DC, on June 27, 2000.
Anthony J. Como,
Deputy Director, Electric Power Regulation, Office of Coal & Power Im/Ex Office of Fossil Energy.

[FR Doc. 00-16556 Filed 6-29-00; 8:45 am]

BILLING CODE 6450-01-P